DEPARTMENT OF TRANSPORTATION

Federal Motor Carrier Safety Administration

[Docket No. FMCSA-2006-25652]

Agency Information Collection Activities; Request for Comments; Notice of Intent To Survey Motor Carriers Operating Small Passenger-Transporting Commercial Motor Vehicles

AGENCY: Federal Motor Carrier Safety Administration (FMCSA), DOT.

ACTION: Notice and request for comments.

SUMMARY: The FMCSA invites comments about our intention to request the Office of Management and Budget (OMB) to approve a new information collection. The new information collection is associated with an agency study by a research contractor which will investigate motor carriers that operate small passenger-transporting commercial motor vehicles (CMVs). The collected information would assist FMCSA with outreach initiatives to these newly regulated motor carriers of passengers. This notice is required by the Paperwork Reduction Act of 1995.

DATES: Comments must be submitted on or before December 18, 2006.

ADDRESSES: All comments should reference Docket No. FMCSA-2006-25652. You may mail or hand deliver comments to the U.S. Department of Transportation, Dockets Management Facility, Room PL-401, 400 Seventh Street, SW., Washington, DC 20590; telefax comments to 202/493-2251; or submit electronically at http://dms.dot.gov. You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Mr. Peter Chandler, Federal Motor Carrier Safety Administration, Office of Enforcement and Compliance, Commercial Passenger Carrier Safety Division, Washington, DC 20590, phone (202) 366-5763, fax (202) 366-3621, e-mail peter.chandler@dot.gov, Office hours are from 8 a.m. to 4 p.m., ET, Monday through Friday, except Federal holidays.

SUPPLEMENTARY INFORMATION: On August 12, 2003, FMCSA published a final rule (68 FR 47860) which required motor carriers operating CMVs, designed or used to transport between 9 and 15 passengers (including the driver), in interstate commerce to comply with the parts 391 through 396 of the Federal Motor Carrier Safety Regulations (FMCSRs) when they are directly compensated for such services, and the vehicle is operated beyond a 75 air-mile radius from the driver's normal work-reporting location. Affected motor carriers were required to be in compliance with such regulations by December 10, 2003. This rule implemented section 212 of the Motor Carrier Safety Improvement Act of 1999. Section 4136 of the Safe, Accountable, Flexible, Efficient Transportation Equity Act: A Legacy For Users (SAFETEA-LU) directed FMCSA to remove the 75 air-mile radius standard. This legislation will result in a greater number of motor carriers that operate small passenger-transporting CMVs, being subject to the FMCSRs. In order to effectively inform these motor carriers of the regulatory requirements that they will become subject to, and administer an effective educational outreach program to this entire industry segment, FMCSA needs information about all of these motor carriers.

Because motor carriers that operate small passenger-carrying CMVs have either been newly regulated or will be regulated in the near future, FMCSA wants to learn about the safety and/or regulatory compliance challenges of this industry segment. There is no motor carrier industry association that is comprised mostly of commercial companies that primarily operate 9-15 passenger-carrying vehicles. This situation makes obtaining information about this industry segment more difficult and necessitates the assistance of a researcher to obtain information needed by FMCSA to effectively provide outreach to these newly regulated carriers. FMCSA will request a research contractor to obtain information about motor carriers with small passenger-transporting CMV operations. The research contractor will collect information through approximately 50 telephone interviews and 8 site visits at places of business. Information obtained from the study will provide insight into the common safety and regulatory compliance challenges facing motor carriers with small passenger-transporting CMV operations. Such information will be utilized by FMCSA to develop educational outreach initiatives for this newly regulated industry segment.

Title: Survey of Motor Carriers with Small Passenger Vehicle Operations.

Type of Information Collection Request: New one-time survey/information collection.

Respondents: For-hire motor carriers that operate 9-15 passenger-carrying vehicles in interstate commerce.

Number of Respondents: 50 motor carriers.

Estimated Average Burden per Response: The estimated average burden per response for each telephone survey is 30 minutes.

Estimated Total Annual Burden: The estimated total annual burden is 25 hours for the information collection based upon an acceptable level of statistical significance and a confidence interval of 13.6 percent.

Total Annual Burden: 25 hours [(50 responses × 30 minutes per response)/60 minutes = 25 hours].

Frequency: This information collection will be a single, nonrecurring event.

Public Comments Invited

Interested parties are invited to send comments regarding any aspect of this information collection, including but not limited to: (1) The necessity and utility of the information collection for the proper performance of the functions of FMCSA and specifically the regulatory oversight of small passenger-transporting commercial motor vehicle operations; (2) the accuracy of the estimated burden; (3) ways to enhance the quality, utility, and clarity of the collected information; and (4) ways to minimize the collection burden without reducing the quality of the collected information. Comments submitted in response to this notice will be summarized and/or included in the request for OMB's clearance of this information collection. For access to the docket to read background documents or comments received, go to http://dms.dot.gov at any time or to Room PL-401 on the plaza level of the Nassif Building, 400 Seventh Street, SW., Washington, DC, between 9 a.m. and 5 p.m., Monday through Friday, except Federal holidays.

Issued on: October 12, 2006
John H. Hill,
Administrator.

[FR Doc. E6-17451 Filed 10-18-06; 8:45 am]

BILLING CODE 4910-EX-P